DEPARTMENT OF ENERGY

Federal Energy Regulatory Commission

Notice of Staff Attendance at Southwest Power Pool Strategic Planning Committee Meeting

The Federal Energy Regulatory Commission hereby gives notice that members of its staff may attend the meeting of the Southwest Power Pool, Inc. (SPP) Strategic Planning Committee (SPC), as noted below. Their attendance is part of the Commission's ongoing outreach efforts.

SPP SPC

March 28, 2011 (10 a.m.-4 p.m.), DFW Hyatt Regency, DFW Airport, Dallas, TX 75261. 972-453-1234.

The discussions may address matters at issue in the following proceedings:

Docket No. ER06-451, Southwest Power Pool, Inc.

Docket No. ER08-1419, Southwest Power Pool, Inc.

Docket No. ER09-659, Southwest Power Pool, Inc.

Docket No. ER09-1050, Southwest Power Pool, Inc.

Docket No. OA08-104, Southwest Power Pool, Inc.

Docket No. ER10-696, Southwest Power Pool, Inc.

Docket No. ER10-941, Southwest Power Pool, Inc.

Docket No. ER10-1069, Southwest Power Pool, Inc.

Docket No. ER10-1254, Southwest Power Pool, Inc.

Docket No. ER10-1269, Southwest Power Pool, Inc.

Docket No. ER10-1697, Southwest Power Pool, Inc.

Docket No. ER10-2244, Southwest Power Pool, Inc.

Docket No. ER11-13, Southwest Power Pool, Inc.

Docket No. ER11-2303, Southwest Power Pool, Inc.

Docket No. ER11-2428, Southwest Power Pool, Inc.

Docket No. ER11-2528, Southwest Power Pool, Inc.

Docket No. ER11-2711, Southwest Power Pool, Inc.

Docket No. ER11-2719, Southwest Power Pool, Inc.

Docket No. ER11-2725, Southwest Power Pool, Inc.

Docket No. ER11-2736, Southwest Power Pool, Inc.

Docket No. ER11-2758, Southwest Power Pool, Inc.

Docket No. ER11-2781, Southwest Power Pool, Inc.

Docket No. ER11-2783, Southwest Power Pool, Inc.

Docket No. ER11-2787, Southwest Power Pool, Inc.

Docket No. ER11-2828, Southwest Power Pool, Inc.

Docket No. ER11-2837, Southwest Power Pool, Inc.

Docket No. ER11-2861, Southwest Power Pool, Inc.

Docket No. ER11-2881, Southwest Power Pool, Inc.

Docket No. ER11-2916, Southwest Power Pool, Inc.

These meetings are open to the public.

For more information, contact Patrick Clarey, Office of Energy Market Regulation, Federal Energy Regulatory Commission at (317) 249-5937 or patrick.clarey@ferc.gov.

Dated: March 14, 2011.
Kimberly D. Bose,
Secretary.

[FR Doc. 2011-6482 Filed 3-18-11; 8:45 am]

BILLING CODE 6717-01-P